FEDERAL COMMUNICATIONS COMMISION

Notice of Public Information Collection(s) Being Reviewed by the Federal Communications Commission

December 24, 2002.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a current valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 31, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov

FOR FURTHER INFORMATION CONTACT: For additional information or copies of the information collection(s) contact Les Smith at 202-418-0217 or via the Internet at lesmith@fcc.gov.

SUPPLEMENTARY INFORMATION: OMB Control Number: 3060-0506.

Title: Application for FM Broadcast Station License, Form 302-FM.

Form Number: FCC 302-FM.

Type of Review: Extension of a currently approved collection.

Respondents: Business or other for-profit entities; Not-for-profit institutions.

Number of Respondents: 925.

Estimated Time per Response: 2-4 hours.

Frequency of Response: On occasion reporting requirements.

Total Annual Burden: 1,840 hours.

Total Annual Costs: $665,500.

Needs and Uses: On October 2, 1998, the FCC adopted a Report and Order (R&O) in MM Docket Nos. 98-43 and 94-149. Among other things, the R&O substantially revised the FCC Form 302-FM to facilitate electronic filing by using certifications and an engineering technical box; simplifying questions; and providing instructions for processing standards and rule interpretations. These changes reduced the applicant's filing burdens when preparing and submitting supporting exhibits and streamlined the Commission's application processing. The Commission has also begun to audit pre- and post-application grants at random to preserve the application process' integrity. The FCC uses the data to confirm that each station has been built as specified in the construction permit; to update FCC station files; and for inclusion in future station operating licenses.

OMB Control Number: 3060-0627.

Title: Application for AM Broadcast Station License, FCC Form 302-AM.

Form Number: FCC 302-AM.

Type of Review: Extension of currently approved collection.

Respondents: Business or other for-profit entities; Not-for-profit institutions.

Number of Respondents: 380.

Estimated Time Per Response: 4-480 hours.

Frequency of Response: On occasion reporting requirements.

Total Annual Burden: 2,800 hours.

Total Annual Costs: $10,070.

Needs and Uses: On October 22, 1998, the Commission adopted a Report and Order (R&O) in MM Docket Nos. 98-43 and 94-149. Among other things, this R&O revised the FCC Form 302-AM to facilitate electronic filing by using of certifications and an engineering technical box; revising questions; and adding detailed instructions for processing standards and rule interpretations. These changes reduced the applicant's filing burden when preparing and submitting supporting exhibits and allowed the Commmission to streamline its application processing. The Commission has also begun to audit pre- and post-application grants at random to preserve the application process' integrity. The FCC uses these data to confirm that each station has been built as specified in the construction permit; to update FCC station files; and for inclusion in future station operating licenses.

Federal Communications Commission.
Marlene H. Dortch,
Secretary.

[FR Doc. 03-1844 Filed 1-27-03; 8:45 am]

BILLING CODE 6712-10-P